DEPARTMENT OF ENERGY

Federal Energy Regulatory Commission

[Project Nos. 11834-000 and 4026-033—Maine]

FPL Energy Maine Hydro, LLC, Androscoggin Reservoir Company; Notice of Availability of Environmental Assessment

May 21, 2002.

In accordance with the National Environmental Policy Act of 1969 and the Federal Energy Regulatory Commission's (Commission's) regulations, 18 CFR part 380 (Order No. 486, 52 FR 47897), the Office of Energy Projects has reviewed the application for an original license for the Upper and Middle Dam Storage Project located on the Rapid River, in Oxford and Franklin Counties, Maine, and has prepared an Environmental Assessment (EA) for the project. In addition, the EA analyzes the proposed permanent flow pursuant to Article 32 of the existing license for the Aziscohos Project, located on the Magalloway River, in Oxford County, Maine. In the EA, the Commission's staff has analyzed the potential environmental effects of the project, and permanent minimum flow and has concluded that approval of the project, with appropriate environmental measures, would not constitute a major federal action significantly affecting the quality of the human environment.

Copies of the EA are available for review in the Public Reference Branch, Room 2-A, of the Commission's offices at 888 First Street, NE., Washington, DC 20426. The EA may also be viewed on the Web at http://www.ferc.gov using the “RIMS” link, select “Docket#” and follow the instructions. Please call (202) 208-2222 for assistance.

Any comments should be filed within 30 days from the date of this notice and should be addressed to Magalie Roman Salas, Secretary, Federal Energy Regulatory Commission, 888 First Street, NE, Room 1-A, Washington, DC 20426. Please affix “Upper and Middle Dam Storage Project No. 11834-000 and Aziscohos Hydroelectric Project No. 4026-033” to all comments. For further information, contact Mark Pawlowski at (202) 219-2795 or e-mail mark.pawlowski@ferc.gov. Comments may be filed electronically via the Internet in lieu of paper. See 18 CFR 385.2001(a)(1)(iii) and the instructions on the Commission's Web site under the “e-Filing” link.

Magalie R. Salas,
Secretary.

[FR Doc. 02-13237 Filed 5-24-02; 8:45 am]

BILLING CODE 6717-01-P